DEPARTMENT OF HEALTH AND HUMAN SERVICES

Health Resources and Services Administration

Agency Information Collection Activities: Proposed Collection Comment Request

In compliance with the requirement for opportunity for public comment on proposed data collection projects (section 3506(c)(2)(A) of Title 44, United States Code, as amended by the Paperwork Reduction Act of 1995, Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques of other forms of information technology.

Proposed Project: Data Collection Tool for Rural Hospital Flexibility Grant Program: (New)

The mission of the Office of Rural Health Policy (ORHP) is to sustain and improve access to quality care services for rural communities. In its authorizing language (Sec. 711. [42 U.S.C. 912]), Congress charged ORHP with “administer[ing] grants, cooperative agreements, and contracts to provide technical assistance and other activities as necessary to support activities related to improving health care in rural areas.”

In accordance with 42 U.S.C. 1820(g)(3)(F), the Health Resources and Services Administration proposes to revise the Rural Hospital Flexibility Grant Program—Guidance and Forms for the Application. The guidance is used annually by 45 States in writing applications for Grants under the Rural Hospital Flexibility Program (Flex) of the Social Security Act, and in preparing the required report.

ORHP seeks to expand the information gathered from Grantees on their use of the grant funds. Flex Grantees would be required to report on the number of Critical Access Hospitals (CAHs), other eligible hospitals, Emergency Medical Service (EMS) providers, or rural health networks they have worked with during the grant period. Areas that can work with the CAHs and eligible hospitals include: Strategic Planning, Board Training, Networking, Benchmarking/Quality Reporting, EMS—Training, Medical Direction, Transfers, and Health Information Technology (HIT) Adoption. During the grant period the grantee can sponsor meetings, seminars, workshops, and/or use other means as appropriate to engage with the hospitals on any of the above subjects or others that are not listed. The Flex grantees would report information on the total number of hospitals or other organizations that participated in any sponsored activities, as well as provide the name of the hospitals and organizations and their addresses.

In addition, ORHP seeks further information on the use of grant funds. Many Flex grantees use sub-contractual agreements to provide direct aid to CAHs, eligible hospitals, rural health networks, EMS providers or other organizations. ORHP will ask each Flex grantee to list all sub-contractual awards made during the grant period, identify the organization which received Flex funding, the amount they received, and the purpose of award. Services provided to CAHs, other hospitals or providers, EMS providers or other entities will be quantified and the value of the service provided will be submitted.

Submission may be made through the use of a spreadsheet attached to the application.

The estimated average annual burden is as follows:

Form | Number of respondents | Responses per respondent | Burden hours per response | Total burden hours
Flex Report | 45 | 1 | 12.5 | 562.5
Total | 45 |  |  | 562.5

Send comments to Susan G. Queen, Ph.D., HRSA Reports Clearance Officer, Room 10-33 Parklawn Building, 5600 Fishers Lane, Rockville, Maryland 20857. Written comments should be received within 60 days of this notice.

Dated: November 7, 2007.
Alexandra Huttinger,
Acting Director, Division of Policy Review and Coordination.

[FR Doc. E7-22241 Filed 11-13-07; 8:45 am]

BILLING CODE 4165-15-P